DEPARTMENT OF ENERGY

Federal Energy Regulatory Commission

[Docket No. EC00-110-000, et al.]

Entergy Gulf States, Inc., et al.; Electric Rate and Corporate Regulation Filings

July 6, 2000.

Take notice that the following filings have been made with the Commission:

1. Entergy Gulf States, Inc.

[Docket No. EC00-110-000]

Take notice that on June 27, 2000, Entergy Gulf States, Inc. (Entergy Gulf States) tendered for filing an application under Section 203 of the Federal Power Act to transfer certain jurisdictional facilities to the City of Gueydan, Louisiana, (Gueydan) which operates the electric distribution system within Gueydan's city limits.

Comment date: July 27, 2000, in accordance with Standard Paragraph E at the end of this notice.

2. Carolina Power & Light Company

[Docket No. EC00-111-000]

Take notice that on June 30, 2000, Carolina Power & Light Company (CP&L), tendered for filing an application pursuant to Section 203 of the Federal Power Act for authorization to sell various jurisdictional facilities the City of Camden, South Carolina. The facilities include conductors, poles, substations, land, transformers, breakers, switches, steel structures, controls, and appurtenances normally included in transmission substations. CP&L states that these facilities are currently being used to serve the City of Camden and one industrial customer.

Comment date: July 28, 2000, in accordance with Standard Paragraph E at the end of this notice.

3. CE Puna Limited Partnership

[Docket No. EG00-187-000]

Take notice that on June 29, 2000, CE Puna Limited Partnership (Applicant), with its principal place of business at 111 Market Place, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

4. CII Woodpower I, Inc.

[Docket No. EG00-188-000]

Take notice that on June 29, 2000, CII Woodpower I, Inc. (Applicant), with its principal place of business at 111 Market Place, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

5. CII Woodpower II, Inc.

[Docket No. EG00-189-000]

Take notice that on June 29, 2000, CII Woodpower II, Inc. (Applicant) with its principal place of business at 111 Market Street, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

6. CD Soda I, Inc.

[Docket No. EG00-190-000]

Take notice that on June 29, 2000, CD Soda I, Inc. (the Applicant), with its principal place of business at 111 Market Place, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

7. CD Soda II, Inc.

[Docket No. EG00-191-000]

Take notice that on June 29, 2000, CD Soda II, Inc. (the Applicant), with its principal place of business at 111 Market Place, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

8. CD Rocklin I, Inc.

[Docket No. EG00-192-000]

Take notice that on June 29, 2000, CD Rocklin I, Inc. (the Applicant), with its principal place of business at 111 Market Place, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

9. CD Rocklin II, Inc.

[Docket No. EG00-193-000]

Take notice that on June 29, 2000, CD Rocklin II, Inc. (the Applicant), with its principal place of business at 111 Market Place, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

10. CD Rocklin III, Inc.

[Docket No. EG00-194-000]

Take notice that on June 29, 2000, CD Rocklin III, Inc. (the Applicant), with its principal place of business at 111 Market Place, Suite 200, Baltimore, Maryland 21202, filed with the Federal Energy Regulatory Commission an application for determination of exempt wholesale generator status pursuant to Part 365 of the Commission's regulations.

Comment date: July 27, 2000, in accordance with Standard Paragraph E at the end of this notice. The Commission will limit its consideration of comments to those that concern the adequacy or accuracy of the application.

11. Ameren Services Company

[Docket No. ER00-1008-001]

Take notice that on June 30, 2000, Ameren Services Company (ASC), the transmission provider, tendered for filing an Amended Service Agreement for Long-Term Firm Point-to-Point Transmission Services between ASC and Reliant Energy Services, Inc. ASC asserts that the purpose of the Amended Agreement is to reflect additional terms which have been agreed upon by the parties, including a Guaranty Agreement which is designed to cover construction cost that ASC will incur on behalf of the customer.

The parties request that the Service Agreements be allowed to become effective June 1, 2000.

Comment date: July 21, 2000, in accordance with Standard Paragraph E at the end of this notice.

12. Virginia Electric and Power Company

[Docket No. ER00-2739-000]

Take notice that on July 5, 2000, Virginia Electric and Power Company (Virginia Power), tendered for filing a tariff sheet numbered “Original Sheet No. 1” that is blank and marked “Reserved” under Virginia Electric and Power Company, FERC Electric Tariff, Second Revised Volume No. 5 in compliance with Designation of Electric Rate Schedule Sheets, 90 FERC ¶ 61,352 (2000). Virginia Power respectfully requested that the tariff sheet be accepted for filing as of June 7, 2000.

Copies of the filing were served upon the public utility's jurisdictional customers, Virginia State Corporation Commission and North Carolina Utilities Commission.

Comment date: July 21, 2000, in accordance with Standard Paragraph E at the end of this notice.

13. Carolina Power & Light Company

[Docket No. ER00-2741-000]

Take notice that Carolina Power & Light Company (“CP&L”), on July 5, 2000, tendered for filing a title page with no pagination and a tariff sheet numbered “Original Sheet No. 1” that is blank and marked “Reserved” under Carolina Power & Light Company, FERC Electric Tariff, Second Revised Volume No. 3 in compliance with Designation of Electric Rate Schedule Sheets, 90 FERC ¶ 61,352 (2000). CP&L respectfully requested that the sheets be accepted for filing as of June 7, 2000.

Copies of the filing were served upon the public utility's jurisdictional customers, North Carolina Utilities Commission and South Carolina Public Service Commission.

Comment date: July 21, 2000, in accordance with Standard Paragraph E at the end of this notice.

14. Wisconsin Energy Corporation Operating Companies

[Docket No. ER00-2763-000]

Take notice that on July 5, 2000, Wisconsin Energy Corporation Operating Companies (Wisconsin Energy), tendered for filing a title page with the correct designation and a tariff sheet numbered “Original Sheet No. 1” that is blank and marked “Reserved” under Wisconsin Energy Corporation Operating Companies, FERC Electric Tariff, First Revised Volume No. 1 in compliance with Designation of Electric Rate Schedule Sheets, 90 FERC ¶ 61,352 (2000).

Wisconsin Energy requested that the sheets be accepted for filing as of June 7, 2000.

Copies of the filing were served upon the public utility's jurisdictional customers, Public Service Commission of Wisconsin and Michigan Public Service Commission.

Comment date: July 21, 2000, in accordance with Standard Paragraph E at the end of this notice.

15. Ohio Edison Company

[Docket No. ER00-3051-000]

Take notice that on July 3, 2000, Ohio Edison Company tendered for filing agreements to construct second delivery points at Cuyahoga Falls and Monroeville, and revisions to Appendices A and B of Service Agreements with American Municipal Power-Ohio, Inc. Under FERC Electric Tariff, Second Revised Volume No.2. This filing is made pursuant to Section 205 of the Federal Power Act.

Comment date: July 24, 2000, in accordance with Standard Paragraph E at the end of this notice.

16. The Dayton Power and Light Company

[Docket No. ER00-3052-000]

Take notice that on June 30, 2000, The Dayton Power and Light Company (Dayton) submitted service agreements establishing with British Columbia Power Exchange Corporation and Pepco Energy Services as customers under the terms of Dayton's Open Access Transmission Tariff.

Dayton requests an effective date of one day subsequent to this filing for the service agreements. Accordingly, Dayton requests waiver of the Commission's notice requirements.

Copies of this filing were served upon with British Columbia Power Exchange Corporation and Pepco Energy Services and the Public Utilities Commission of Ohio.

Comment date: July 21, 2000, in accordance with Standard Paragraph E at the end of this notice.

17. The Dayton Power and Light Company

[Docket No. ER00-3053-000]

Take notice that on June 30, 2000, The Dayton Power and Light Company (Dayton) submitted service agreements establishing Amerada Hess Corporation as a customer under the terms of Dayton's Market-Based Sales Tariff.

Dayton requests an effective date of one day subsequent to this filing for the service agreements. Accordingly, Dayton requests waiver of the Commission's notice requirements.

Copies of this filing were served upon Amerada Hess Corporation and the Public Utilities Commission of Ohio.

Comment date: July 21, 2000, in accordance with Standard Paragraph E at the end of this notice.

18. DTE Georgetown, LLC

[Docket No. ER00-3054-000]

Take notice that on June 30, 2000, DTE Georgetown, LLC (DTE Georgetown) filed a tolling agreement under its FERC Electric Tariff Original Volume No. 1.

DTE Georgetown requests that the acceptance of this contract be effective as of June 1, 2000.

Comment date: July 21, 2000, in accordance with Standard Paragraph E at the end of this notice.

19. PPL Montour, LLC

[Docket No. ER00-3055-000]

Take notice that on June 30, 2000, PPL Montour, LLC (PPL Montour) notified the Commission that PPL Electric Utilities Corporation (PPL Utilities) will assign its rights and obligations under the Energy Service Agreement among the Keystone Generating Station Owners and Sithe Power Marketing, L.P., dated November 24, 1999, and filed the Energy Service Agreement.

PPL requests that the effective date of the Energy Service Agreement be made July 1, 2000.

PPL Montour has served a copy of this filing on the Keystone Generating Owners, Sithe Power Marketing, L.P. and PPL Utilities.

Comment date: July 21, 2000, in accordance with Standard Paragraph E at the end of this notice.

20. South Carolina Electric & Gas Company

[Docket No. ER00-3056-000]

Take notice that on July 3 ,2000, South Carolina Electric & Gas Company (SCE&G) submitted a service agreement establishing DTE Energy Trading, Inc. as a firm point-to-point customer under the terms of SCE&G's Open Access Transmission Tariff.

SCE&G requests an effective date of one day subsequent to the filing of the service agreement. Accordingly, SCE&G requests waiver of the Commission's notice requirements.

Copies of this filing were served upon DTE Energy Trading, Inc. and the South Carolina Public Service Commission.

Comment date: July 24, 2000, in accordance with Standard Paragraph E at the end of this notice.

21. Indiana Michigan Power Company, d/b/a American Electric Power

[Docket No. ER00-3057-000]

Take notice that on July 3, 2000, Indiana Michigan Power Company, d/b/a American Electric Power (AEP), tendered for filing with the Commission Addenda to the Service Agreements under which AEP provides wholesale electric service to members of the Indiana and Michigan Municipal Distributors Association (IMMDA). Specifically, AEP provides wholesale electric service under AEP's FERC Tariff MRS, Original Volume No. 4, to the Town of Avilla, Indiana, the City of Bluffton, Indiana, the City of Garrett, Indiana, the City of Gas City, Indiana, the City of Mishawaka, Indiana,¹ the Town of New Carlisle, Indiana, the City of Niles, Michigan, the Village of Paw Paw, Michigan, the City of South Haven, Michigan, the City of Sturgis, Michigan,² and the Town of Warren, Indiana, by electric service agreements dated at various dates during the year 1997 (Service Agreements).

¹ AEP provides wholesale electric service to the City of Mishawaka under FERC Tariff WS, Original Volume No. 5.

² AEP Tariff MRS Service to the City of Sturgis under the Electric Service Agreement dated May 8, 1968 ended August 31, 1999.

AEP requests that the Addenda be made effective beginning with the July 2000 billing month.

AEP states that a copy of its filing was served upon the IMMDA members, the Indiana Utility Regulatory Commission, and the Michigan Public Service Commission.

Comment date: July 24, 2000, in accordance with Standard Paragraph E at the end of this notice.

22. Cleco Evangeline LLC

[Docket No. ER00-3058-000]

Take notice that on July 3, 2000, Cleco Evangeline LLC (Cleco Evangeline), tendered for filing a sale and tolling agreement under which Cleco Evangeline will make market-based power sales to Williams Energy Marketing & Trading Company. Cleco Evangeline is an affiliate of Cleco Utility Group Inc., a public utility subject to the Commission's jurisdiction under the Federal Power Act, 16 U.S.C. § 79l(a) et. seq. Cleco Evangeline requests confidential treatment of the agreement pursuant to 18 CFR 388.112.

A copy of the filing has been served upon Williams Energy Marking & Trading Company.

Comment date: July 24, 2000, in accordance with Standard Paragraph E at the end of this notice.

23. Indianapolis Power & Light Company

[Docket No. ER00-3059-000]

Take notice that on July 3, 2000, Indianapolis Power & Light Company (IPL) tendered for filing a blanket service agreement under IPL's Wholesale Power Sales Tariff. The Tariff was accepted for filing effective April 29, 2000 and has been designated as IPL's FERC Electric Tariff Revised Volume 2.

IPL requests that the effective date of the service agreement be June 1, 2000

A copy of the filing was served upon the party to the service agreement.

Comment date: July 24, 2000, in accordance with Standard Paragraph E at the end of this notice.

24. Ohio Valley Electric Corporation

[Docket No. ER00-3060-000]

Take notice that on July 3, 2000, Ohio Valley Electric Corporation (OVEC), in accordance with the Commission's order in North American Electric Reliability Council, 91 FERC ¶ 61,122 (2000), tendered for filing a notice informing the Commission that OVEC has adopted revised Transmission Loading Relief procedures submitted to the Commission by the North American Electric Reliability Council.

Copies of this filing were served upon OVEC's jurisdictional customers and upon each state public service commission that, to the best of OVEC's knowledge, has retail rate jurisdiction over such customers.

Comment date: July 24, 2000, in accordance with Standard Paragraph E at the end of this notice.

25. Alrus Consulting, L.L.C.

[Docket No. ER00-3061-000]

Take notice that on July 3, 2000, Alrus Consulting L.L.C. (Alrus) filed a Petition with the Federal Energy Regulatory Commission (Commission) for acceptance of FERC Rate Schedule IND/COMM Generators—Alrus, FERC Electric Rate Schedule No. 1, the granting of certain waivers of the Commission's Regulations, and the granting of certain blanket approvals. Alrus seeks authority to purchase energy and/or capacity from eligible independent power producers (IPPs) at market-based rates for resale.

Alrus also requests a waiver of the 60-day prior notice requirement to allow the rate schedule to become effective, without suspension or hearing, on or before July 26, 2000.

Alrus is an unaffiliated power marketer authorized to engage in wholesale power and energy transactions pursuant to the Commission's Order in Docket No. ER00-861-000.

Comment date: July 24, 2000, in accordance with Standard Paragraph E at the end of this notice.

26. New Century Services, Inc.

[Docket No. ER00-3062-000]

Take notice that on July 3, 2000, New Century Services, Inc. on behalf of Cheyenne Light, Fuel and Power Company, Public Service Company of Colorado, and Southwestern Public Service Company (collectively Companies) tendered for filing a Service Agreement under their Joint Open Access Transmission Service Tariff for Firm Point-to-Point Transmission Service between the Companies and Golden Spread Electric Cooperative, Inc.

The Companies request that the Agreement be made effective on June 6, 2000.

Comment date: July 24, 2000, in accordance with Standard Paragraph E at the end of this notice.

27. New Century Services, Inc.

[Docket No. ER00-3063-000]

Take notice that on July 3, 2000, New Century Services, Inc. on behalf of Cheyenne Light, Fuel and Power Company, Public Service Company of Colorado, and Southwestern Public Service Company (collectively Companies) tendered for filing a Service Agreement under their Joint Open Access Transmission Service Tariff for Non-Firm Point-to-Point Transmission Service between the Companies and Golden Spread Electric Cooperative, Inc.

The Companies request that the Agreement be made effective on June 6, 2000.

Comment date: July 24, 2000, in accordance with Standard Paragraph E at the end of this notice.

28. Genesee Power Station Limited Partnership

[Docket No. QF93-19-001]

Take notice that on June 29, 2000, Genesee Power Station Limited Partnership, a Michigan limited partnership, filed with the Federal Energy Regulatory Commission an application for certification of a facility as a qualifying small power production facility pursuant to § 292.207(b) of the Commission's regulations. No determination has been made that the submittal constitutes a complete filing.

The applicant's 38 MW facility located in Genesee Township, Michigan (Facility) was self-certified in Docket No. QF93-19-000. Certification by the Commission is sought to confirm the QF status of the Facility in light of changes in certain upstream ownership interests. The Facility is interconnected with Consumers Energy Company, and Consumers Energy Company supplies all maintenance power to the Facility.

Comment date: July 31, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-17681 Filed 7-12-00; 8:45 am]

BILLING CODE 6717-01-P